DEPARTMENT OF ENERGY

Federal Energy Regulatory Commission

[Project No. 14995-000]

Pumped Hydro Storage LLC; Notice of Surrender of Preliminary Permit

Take notice that Pumped Hydro Storage LLC, permittee for the proposed San Francisco River Pumped Storage Project, has requested that its preliminary permit be terminated. The permit was issued on February 18, 2021 and would have expired on January 31, 2024.¹ The project would have been located on the San Francisco River in Greenlee County, Arizona and Catron County, New Mexico, on land that is part of the Apache-Sitgreaves National Forest in Arizona and the Gila National Forest in New Mexico.

¹ 174 FERC ¶ 61,122 (2021).

The preliminary permit for Project No. 14995 will remain in effect until the close of business, January 11, 2023. But, if the Commission is closed on this day, then the permit remains in effect until the close of business on the next day in which the Commission is open.² New applications for this site may not be submitted until after the permit surrender is effective.

² 18 CFR 385.2007(a)(2) (2021).

Dated: December 12, 2022.
Kimberly D. Bose,
Secretary.

[FR Doc. 2022-27312 Filed 12-15-22; 8:45 am]

BILLING CODE 6717-01-P